DEPARTMENT OF TRANSPORTATION

Federal Motor Carrier Safety Administration

[Docket No. FMCSA-2008-0336]

Agency Information Collection Activities; New Information Collection: Annual Commercial Vehicle Driver Survey: Work and Compensation

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The purpose of this information collection is to acquire general information regarding the commercial motor vehicle driving population and specific information on driver work history, work scheduling, and compensation. This information is needed in many different types of analyses conducted by the FMCSA and would benefit the FMCSA in assessing the impacts of proposed rules and the improvement of its safety programs.

DATES: We must receive your comments on or before February 10, 2009.

ADDRESSES: You may submit comments bearing the Federal Docket Management System (FDMS) Docket Number FMCSA-2008-0336 using any of the following methods:

• Federal eRulemaking Portal: Go to http://www.regulations.gov. Follow the online instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC 20590-0001 between 9 a.m. and 5 p.m., e.t., Monday through Friday, except Federal holidays.

• Fax: 1-202-493-2251.

Each submission must include the Agency name and the docket number for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC 20590-0001 between 9 a.m. and 5 p.m., Monday through Friday, except Federal holidays. The FDMS is available 24 hours each day, 365 days each year. If you want acknowledgement that we received your comments, please include a self-addressed, stamped envelope or post card or print the acknowledgement page that appears after submitting online.

Privacy Act: Anyone may search the electronic form of all comments received into any of our dockets by the name of the individual submitting the comment (or of the person signing the comment, if submitted on behalf of an association, business, labor union, etc.). You may review the DOT's complete Privacy Act Statement in the Federal Register on April 11, 2000 (65 FR 19476). This information is also available at http://docketsinfo.dot.gov.

FOR FURTHER INFORMATION CONTACT: Dr. Mindy Shalaby, Economist, Analysis Division, Office of Analysis, Research and Technology, Federal Motor Carrier Safety Administration, 1200 New Jersey Ave., SE., Washington, DC 20590. Telephone: (202) 493-0304; e-mail Mindy.Shalaby@dot.gov. Requests for additional information or copies of the information collection instrument and instructions should be directed to Dr. Michelle Yeh, Engineering Psychologist, Human Factors Division, Volpe National Transportation Systems Center, 55 Broadway, Cambridge, MA 02124. Telephone: (617) 494-3459; e-mail Michelle.Yeh@dot.gov. Office hours are from 9 a.m. to 5 p.m., Monday through Friday, except Federal holidays.

SUPPLEMENTARY INFORMATION: Background: The Federal Motor Carrier Safety Administration (FMCSA) needs a better understanding of the commercial motor vehicle (CMV) driving population. Driver-related factors are an important consideration in CMV crashes, but there is no central nationwide source of information describing the population of drivers operating CMVs in the United States (US). Estimates of the number of commercial drivers and particular subsets of drivers (e.g., local, short-haul, and long-haul) are needed and would benefit FMCSA in assessing the impacts of proposed rules and the improvement of its safety programs. In particular, information on driver work history, work schedule, and compensation is needed in many different types of analyses conducted by the FMCSA.

Driver work history addresses how long a CMV driver has been working in the industry, his/her level of experience, and his/her type of experience. These items include questions regarding driver tenure with his/her current employer and the number of past employers to provide information regarding the driver turnover rate. Items also collect information about driver training to understand how drivers learned to operate their CMVs and the amount of training that is ongoing in the industry. Driver work schedule examines the issue of how much drivers work and the activities in which they are engaged when they work (e.g., driving time, loading time, waiting time). FMCSA is interested in understanding whether drivers' work schedules are tracked and how they are tracked (e.g., with paper log books or Electronic On-Board Recorders (EOBRs). Finally, driver compensation collects information on how much drivers earn and how they are paid (e.g., salary, by hour, or by mile). This data will allow FMCSA to estimate an average wage rate, which can be used to understand the cost imposed on drivers by current and proposed regulations.

The goals of this survey are to acquire general demographic information regarding the commercial motor vehicle driving population, and specific information on driver work history, work scheduling, and compensation. Data for this project will be collected via driver interviews. The results of the information collection will be summarized in a report for the FMCSA and made available to the public.

Title: Annual Commercial Vehicle Driver Survey: Work and Compensation.

OMB Control Number: 2126-XXXX.

Type of Request: New collection.

Respondents: Commercial motor vehicle drivers.

Estimated Number of Respondents: 576 commercial motor vehicle drivers.

Estimated Time per Response: 15 minutes per response.

Expiration Date: N/A.

Frequency of Response: Once.

Estimated Total Annual Burden: 144 hours [576 respondents × 15 minutes/60 minutes per response = 144].

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information. The agency will summarize or include your comments in the request for OMB's clearance of this information collection.

Issued on: December 5, 2008.
Terry Shelton,
Associate Administrator for Research and Information Technology.

[FR Doc. E8-29414 Filed 12-11-08; 8:45 am]

BILLING CODE 4910-EX-P